ENVIRONMENTAL PROTECTION AGENCY

[FRL-9905-68-ORD]

An Assessment of Potential Mining Impacts on Salmon Ecosystems of Bristol Bay, Alaska

AGENCY: Environmental Protection Agency (EPA).

ACTION: Notice of availability.

SUMMARY: The U.S. Environmental Protection Agency (EPA) is announcing the availability of the final report titled, “An Assessment of Potential Mining Impacts on Salmon Ecosystems of Bristol Bay, Alaska” (EPA 910-R-14-001A-C). EPA conducted this assessment to determine the significance of Bristol Bay's ecological resources and evaluate the potential impacts of large-scale mining on these resources.

The report “An Assessment of Potential Mining Impacts on Salmon Ecosystems of Bristol Bay, Alaska” (EPA 910-R-14-001A-C) is available via the Internet on the EPA Region 10 Web site www.epa.gov/bristolbay. The report is also available on the National Center for Environmental Assessment's Web site (www.epa.gov/ncea) under the Recent Additions and the Data and Publications menu.

DATES: This report was posted publicly on January 15, 2014.

ADDRESSES: The report is available primarily via the Internet on the EPA Region 10 Web site www.epa.gov/bristolbay as well as on the National Center for Environmental Assessment's Web site (www.epa.gov/ncea) under the Recent Additions and Publications menu. A limited number of CD-ROM copies will be available from EPA Region 10; telephone 503-326-6994; email R10BristolBay@epa.gov. If you are requesting a CD-ROM copy, please provide your name, your mailing address, and the document title.

FOR FURTHER INFORMATION CONTACT: For additional information concerning the assessment, contact EPA Region 10, Judy Smith, telephone 503-326-6994 or email R10BristolBay@epa.gov.

SUPPLEMENTARY INFORMATION:

The U.S. Environmental Protection Agency (EPA) conducted this assessment to characterize the biological and mineral resources of the Bristol Bay watershed, increase understanding of potential impacts of large-scale mining on the region's fish resources, and inform future government decisions related to protecting and maintaining the chemical, physical, and biological integrity of the watershed. The assessment is intended to be a technical resource for the public and for federal, state, and tribal government entities as they consider how best to address the challenges of mining and ecological protection in the Bristol Bay watershed. It will inform ongoing discussion of the risks of mine development to the sustainability of the Bristol Bay salmon fisheries and will be of value to the many stakeholders in this debate. The assessment also could inform the consideration of options for future government action, including by EPA. The Web site that describes the project is www.epa.gov/bristolbay.

Dated: January 14, 2014.
Debra B. Walsh,
Acting Deputy Director, National Center for Environmental Assessment.

[FR Doc. 2014-01082 Filed 1-17-14; 8:45 am]

BILLING CODE 6560-50-P